FEDERAL COMMUNICATIONS COMMISSION

47 CFR Part 73

[DA 02-2612; MM Docket No. 00-31; RM-9815, RM-10014, RM-10095]

Radio Broadcasting Services; Nogales, Patagonia, and Vail, AZ

AGENCY: Federal Communications Commission.

ACTION: Final rule, correction.

SUMMARY: The Federal Communications Commission published in the Federal Register of October 31, 2002, a document dismissing an Application for Review filed by Big Broadcast of Arizona, LLC directed to the Report and Order in this proceeding. The amendatory language was omitted from the document. This document adds the amendatory language.

DATES: Effective on February 5, 2003.

FURTHER INFORMATION CONTACT: Robert Hayne, Media Bureau, (202) 418-2177.

SUPPLEMENTARY INFORMATION: The FCC published a document in the Federal Register of October 31, 2002 (67 FR 66340), dismissing an Application for Review filed by Big Broadcast of Arizona, LLC directed to the Report and Order in this proceeding. See 65 FR 11540, March 3, 2000. In FR Doc. 02-27693, the amendatory language was omitted. This correction adds the amendatory language to the document.

In rule FR Doc. 02-27693 published on October 31, 2002 (67 FR 66340), make the following correction. On page 66341, in the first column, after line 15, add the following amendatory language:

For the reasons discussed in the preamble, the Federal Communications Commission amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 283A at Vail.

Dated: January 29, 2003.
John A. Karousos,
Assistant Chief, Audio Division, Media Bureau.

[FR Doc. 03-2671 Filed 2-4-03; 8:45 am]

BILLING CODE 6712-01-U